DEPARTMENT OF DEFENSE

Office of the Secretary

[Transmittal No. 16-07]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Heather N. Harwell, DSCA/LMO, (703) 697-9217.

The following is a copy of a letter to the Speaker of the House of Representatives,

Transmittal 16-07 with attached Policy Justification and Sensitivity of Technology.

Dated: May 2, 2016.
Aaron Siegel,
Alternate OSD Federal Register Liaison Officer, Department of Defense.

BILLING CODE 5001-06-P

BILLING CODE 5001-06-C

Transmittal No. 16-07

Notice of Proposed Issuance of Letter of Offer Pursuant to Section 36(b)(1) of the Arms Export Control Act, as Amended

(i) Prospective Purchaser: Government of Qatar

(ii) Total Estimated Value:

Major Defense Equipment * | $ 227 million
Other | $ 33 million
Total | $ 260 million

(iii) Description and Quantity or Quantities of Articles or Services under Consideration for Purchase:

Major Defense Equipment (MDE):

Two-hundred and fifty-two (252) RIM 116C Rolling Airframe Tactical Missiles

Two (2) RIM 116C-2 Rolling Airframe Telemetry Missiles

Also included are the following non-MDE items; support equipment, publications, technical documentation, personnel training, U.S. Government and contractor engineering, technical and logistics support services, live fire test event support, and other related integration elements. The estimated cost is $260 million.

(iv) Military Department: U.S. Navy (AAD)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 21 April 2016

* as defined in Section 47(6) of the Arms Export Control Act.

POLICY JUSTIFICATION

Qatar—RIM-116C and RIM-116C-2 Rolling Airframe Missiles

The Government of Qatar has requested a possible sale of two-hundred and fifty-two (252) RIM-116C Rolling Airframe Tactical Missiles, and two (2) RIM 116C-2 Rolling Airframe Telemetry Missiles. Also included are support equipment, publications and technical documentation, personnel training, U.S. Government and contractor engineering, technical and logistics support services, live fire test event support, and other related integration elements. The total estimated value of MDE is $227 million. The overall total estimated value is $260 million.

This proposed sale contributes to the foreign policy and national security of the United States by helping to improve the security of a friendly country. Qatar is an important force for political stability and economic progress in the Persian Gulf region. This proposed sale will provide Qatar with military capabilities to protect its naval forces and nearby oil/gas infrastructure from air and missile threats. Qatar will have no difficulty absorbing these missiles into its armed forces.

The proposed sale of this equipment, services, and support will not alter the basic military balance in the region.

The principal contractor will be Raytheon Missile Systems in Tucson, Arizona. There are no known offset agreements proposed in connection with this potential sale.

Implementation of this proposed sale will require multiple trips by U.S. Government and contractor representatives to participate in program and technical reviews, system integration, as well as training and maintenance support in country for a period of thirty-six (36) months.

There will be no adverse impact on U.S. defense readiness as a result of this proposed sale.

Transmittal No. 16-07

Notice of Proposed Issuance of Letter of Offer Pursuant to Section 36(b)(1) of the Arms Export Control Act, as Amended

Annex

Item No. vii

(vii) Sensitivity of Technology:

The RIM-116C Rolling Airframe Missile is an autonomous (i.e., “fire and forget”) lightweight, supersonic, surface-to-air tactical missile for ship self-defense against current and evolving anti-ship cruise missile threats. Advanced technology in the RIM-116C includes dual-mode RF/IR (radio frequency/infrared) guidance with IR all-the-way capability for non-emitting threats. The highest classification of the hardware, embedded software, and maintenance is CONFIDENTIAL. The RIM-116C-2 is a non-tactical telemetry round, used primarily for test and training purposes; it includes an unclassified telemeter which replaces the warhead section. The data set, generated by RIM-116C-2 is UNCLASSIFIED.

The Rolling Airframe Missile (RAM) is a product of a cooperative program with Germany and has been executed, since 1976, under a series of governing Memoranda of Understanding/Memoranda of Agreements (MOU/MOAs) for the development, production, and in-service support between the United States and Germany.

A determination has been made that the Government of Qatar can provide substantially the same degree of protection for the sensitive technology being released as the U.S. Government. This sale is necessary in furtherance of U.S. foreign policy and national security objectives outlined in the Policy Justification.

All defense articles and services listed in this transmittal have been authorized for release and export to the Government of Qatar.

[FR Doc. 2016-10551 Filed 5-4-16; 8:45 am]

BILLING CODE 5001-06-P